DEPARTMENT OF LABOR

[DOL Docket No. DOL-2020-0010]

Privacy Act of 1974; System of Records

AGENCY: Office of Inspector General (OIG), United States Department of Labor.

ACTION: Notice of a new system of records.

SUMMARY: In accordance with the Privacy Act of 1974, as amended (“Privacy Act”), the U.S. Department of Labor (“Department”) publishes this notice of a new system of records, the Office of Inspector General (“OIG”), Office of Legal Services (“OLS”) Legal Information System for Administration, Records, and Disclosure (“LISARD”), DOL/OIG-13. This system will consist of records of the OLS legal services, and the whistleblower protection coordinator, information disclosure, and records management programs program.

DATES: This System of Records Notice (SORN) is effective upon its publication in today's Federal Register with the exception of the routine uses. The new routine uses will not be effective until May 24, 2021 ending public comment. Comments on the new routine uses or other aspects of the SORN must be submitted on or before May 24, 2021.

ADDRESSES: Submit your comments by one of the following methods:

Electronic Comments: Comments may be sent via email to SORNComments@oig.dol.gov. http://www.regulations.gov, to submit comments on documents that agencies have published in the Federal Register and that are open for comment.

Mail: Address written submissions (including disk and CD-ROM submissions) to Chief, Branch of Database Management and Applications, 200 Constitution Avenue NW, Washington, DC 20210, DC 20210.

Instructions: Please submit only one copy of your comments by only one method. All submissions must include the agency's name and the Docket Number 2020-0010. Please be advised that comments received will become a matter of public record and will be posted without change to http://www.regulations.gov, including any personal information provided. Comments that are mailed must be received by the date indicated for consideration.

Docket: For access to the docket to read background documents or comments, go to the Federal e-Rulemaking Portal at http://www.regulations.gov.

FOR FURTHER INFORMATION CONTACT: John Birdsell, Chief, Branch of Database Management and Applications, 200 Constitution Avenue NW, Washington, DC 20210, DC 20210. Mr. Birdsell can also be reached via email at Birdsell.john@oig.dol.gov or via phone at (202)-693-7055.

SUPPLEMENTARY INFORMATION: The Department of Labor has established a system of records pursuant to the Privacy Act of 1974 (5 U.S.C. 552a(e)(4)), hereinafter referred to as the Privacy Act. This new system of records is established for the general purpose of enabling the Department's Office of Inspector General (OIG) to fulfill its statutory duties and responsibilities under the Inspector General Act of 1978, as amended, 5 U.S.C. Appendix 3 (“IG Act”).

SYSTEM NAME AND NUMBER:

Office of Legal Services Records, Administration, and Tracking System, DOL/OIG-13.

SECURITY CLASSIFICATION:

Unclassified.

SYSTEM LOCATION:

Primary location: Offices in various components within the U.S. Department of Labor, at the Frances Perkins Building, 200 Constitution Avenue NW, Washington, DC 20210, or other Department offices. Additionally, duplicate versions of some or all system information may also be at satellite locations where the OIG has granted direct access to support OIG operations, system backup, emergency preparedness, and/or continuity of operations. To determine the location of particular program records, contact the system manager, listed in section “SYSTEM MANAGER” below.

SYSTEM MANAGER(S):

U.S. DOL Office of Inspector General, Office of Management and Policy, Attention: Chief, Branch of Database Management and Applications, 200 Constitution Avenue NW, Washington, DC 20210.

AUTHORITY FOR MAINTENANCE OF THE SYSTEM:

The Inspector General Act of 1978, as amended, 5 U.S.C. Appendix 3.

PURPOSE(S) OF THE SYSTEM:

The system will facilitate supervision and coordination of legal services, records management program, information disclosure program, and the whistleblower protection coordinator program. The system tracks OLS program matters and generates statistical reports to support OLS processes. The records are used to answer, advise, evaluate, adjudicate, defend, opine, prosecute, or settle claims, complaints, lawsuits, or criminal and civil investigations.

CATEGORIES OF INDIVIDUALS COVERED BY THE SYSTEM:

Any individual who contacts OLS for legal services regarding OLS-supported programs (information disclosure, records management, and whistleblower complaints); any individual who is the subject of, or is a witness to, the matter; and OLS employees and contractors who are assigned matters are documented within the system.

CATEGORIES OF RECORDS IN THE SYSTEM:

The system includes records created by any individual who submits a request for OLS assistance, or to facilitate assignment, answer, and closure of OIG legal matters or program matters. Information may be obtained from litigation case files, opinion and advice files, OIG mission-related files, OLS program files, correspondence, and records originating from non-OIG sources and submitted to the OIG for OLS action.

RECORD SOURCE CATEGORIES:

The system includes records created by any individual who submits a request for OLS assistance, or to facilitate assignment, answer, and closure of OIG legal matters or program matters. Information may be obtained from litigation case files, opinion and advice files, OIG mission-related files, OLS program files, correspondence, and records originating from non-OIG sources and submitted to the OIG for OLS action.

ROUTINE USES OF RECORDS MAINTAINED IN THE SYSTEM, INCLUDING CATEGORIES OF USERS AND PURPOSES OF SUCH USES:

In addition to the disclosures permitted under 5 U.S.C. 522a(b), as well as those contained in the Department's Universal Routine Uses of Records, records and information may be disclosed to other federal inspector general offices, the Council of the Inspectors General on Integrity and Efficiency (CIGIE), and other law enforcement agencies for the purpose of providing assistance to the OIG.

Congressional Inquiries Disclosure Routine Use:

The following Universal Routine Use for DOL Privacy Act Systems applies: Disclosure from a system of records maintained by a DOL Agency may be made to a Member of Congress or to a Congressional staff member in response to an inquiry of the Congressional office made at the written request of the constituent about whom the record is maintained.

Disclosure to the Department of Justice for Litigation Routine Use:

The following Universal Routine Use for DOL Privacy Act Systems applies: To the Department of Justice when: (a) DOL or any component thereof; or (b) any employee of DOL in his or her official capacity; or (c) the United States Government, is a party to litigation or has an interest in such litigation, and by careful review, DOL determines that the records are both relevant and necessary to the litigation, and the use of such records by the Department of Justice is for a purpose that is compatible with the purpose for which DOL collected the records.

Disclosure of Information to the National Archives and Records Administration Routine Use:

The following Universal Routine Use for DOL Privacy Act Systems applies: A record from a system of records maintained by a DOL Agency may be disclosed as a routine use to the National Archives and Records Administration for the purpose of records management inspections conducted under authority of 44 U.S.C. 2904 and 2906.

Privacy Act Routine Uses Required to Respond to a Breach:

(1) To appropriate agencies, entities, and persons when (1) DOL suspects or has confirmed that there has been a breach of the system of records, (2) DOL has determined that as a result of the suspected or confirmed breach there is a risk of harm to individuals, DOL (including its information systems, programs, and operations), the Federal Government, or national security; and (3) the disclosure made to such agencies, entities, and persons is reasonably necessary to assist in connection with DOL efforts to respond to the suspected or confirmed breach or to prevent, minimize, or remedy such harm.

(2) To another Federal agency or Federal entity, when DOL determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The records are primarily maintained in electronic form, and individual users may retain paper copies.

POLICIES AND PRACTICES FOR RETRIEVAL OF RECORDS:

Records in this system of records may be retrieved by a system-generated identifying number or any identifying information of an individual or organization.

POLICIES AND PRACTICES FOR RETENTION AND DISPOSAL OF RECORDS:

Records are maintained and disposed of in accordance with the OIG's Records Disposition Schedules applicable to OIG records. Disposition is pending for OLS records. Until the National Archive and Records Administration approves the retention and disposal schedule for these records, treat the records as permanent.

ADMINISTRATIVE, TECHNICAL, AND PHYSICAL SAFEGUARDS:

LISARD is an electronic system with access restricted to authorized personnel, with tiered access rights. All data contained in the system is kept on a secured and restricted non-pubic network. Only authorized OIG employees and contractors can access the web-based system, and the general public does not have access.

RECORD ACCESS PROCEDURES:

A request for access should be mailed to the System Manager and comply with the requirements specified in 29 CFR 71.2.

CONTESTING RECORD PROCEDURES:

A petition for amendment should be mailed to the System Manager, and should include contact information for the requester. Requests for correction or amendment must identify the record to be changed and the corrective action sought.

NOTIFICATION PROCEDURES:

Inquiries should be mailed to the System Manager and comply with the requirements specified in 29 CFR 71.

EXEMPTIONS PROMULGATED FOR THE SYSTEM:

To facilitate legal services and other OLS program support, the new system includes records that may be exempt from certain Privacy Act requirements. Pursuant to 5 U.S.C. 552a(j)(2), the Department may exempt from a limited number of Privacy Act requirements a system of records that is maintained by a component which performs as its primary function any activity pertaining to the enforcement of criminal laws and which consists of information compiled in furtherance of its functions. Additionally, pursuant to 5 U.S.C. 552a(k)(1) and (k)(2), through rulemaking, the Department may exempt from a limited number of Privacy Act requirements a system of records which are disclosed to departmental officers and employees with a need for the record, or which contains investigatory materials compiled for law enforcement purposes other than material within the scope of 5 U.S.C. 552(j)(2). The OIG will apply to individual records within the system any Privacy Act exemptions which apply to the system(s) from which the relevant record(s) originated. In accordance with 5 U.S.C. 522(r), the Department provided a report to OMB and Congress on this new system.

HISTORY:

None.

Rachana Desai Martin,
Senior Agency Official for Privacy, Deputy Assistant Secretary for Policy, Office of the Assistant Secretary for Administration and Management, Department of Labor.

[FR Doc. 2021-08343 Filed 4-21-21; 8:45 am]

BILLING CODE 4510-04-P